ENVIRONMENTAL PROTECTION AGENCY

40 CFR Part 80

[EPA-HQ-OAR-2014-0905; FRL 9929-91-OAR]

RIN 2060-AS58

Approval of Alabama's Request To Relax the Federal Reid Vapor Pressure Gasoline Volatility Standard for Birmingham, Alabama

AGENCY: Environmental Protection Agency.

ACTION: Withdrawal of direct final rule.

SUMMARY: Due to the receipt of two adverse comments, the Environmental Protection Agency (EPA) is withdrawing the May 7, 2015 direct final rule to approve the request from Alabama to relax the Reid Vapor Pressure (RVP) standard applicable to gasoline introduced into commerce from June 1 to September 15 of each year in Jefferson and Shelby counties, Alabama (“the Birmingham area”). The EPA is considering these comments and will address the comments in a separate action. The EPA will not institute a second comment period on this action.

DATES: The direct final rule published at 80 FR 26191 on May 7, 2015 is withdrawn, effective July 2, 2015.

FOR FURTHER INFORMATION CONTACT: Patty Klavon, Office of Transportation and Air Quality, Environmental Protection Agency, 2000 Traverwood Drive, Ann Arbor, Michigan 48105; telephone number: (734) 214-4476; fax number: (734) 214-4052; email address: klavon.patty@epa.gov.

SUPPLEMENTARY INFORMATION: On May 7, 2015 (80 FR 26191), the EPA published a direct final rule to approve a request from the state of Alabama to change the summertime gasoline RVP standard for Jefferson and Shelby counties (“the Birmingham area”) from 7.8 pounds per square inch (psi) to 9.0 psi by amending the EPA's regulations at 40 CFR 80.27(a)(2). In an April 17, 2015 final rule, the EPA approved a state implementation plan (SIP) revision from the state of Alabama which provided a technical demonstration that relaxing the federal RVP requirement from 7.8 psi to 9.0 psi for gasoline sold from June 1 to September 15 of each year in the Birmingham area would not interfere with maintenance of the national ambient air quality standards (NAAQS) in the Birmingham area. For more information on Alabama's SIP revision, please refer to the April 17, 2015 rulemaking (80 FR 21170).

In the May 7, 2015 direct final rule, the EPA stated that if adverse comments were received by June 8, 2015, the rule would be withdrawn and not take effect. The EPA received two comments. The EPA is treating these comments as adverse. Therefore, the EPA is withdrawing the direct final rule. The EPA will address these comments in a separate final action based on the May 7, 2015 proposed rulemaking (80 FR 26212). The EPA will not institute a second comment period on this action.

List of Subjects in 40 CFR Part 80

Environmental protection, Administrative practice and procedures, Air pollution control, Fuel additives, Gasoline, Motor vehicle and motor vehicle engines, Motor vehicle pollution, Penalties, Reporting and recordkeeping requirements.

Dated: June 25, 2015.
Gina McCarthy,
Administrator.

Accordingly, the amendment to 40 CFR 80.27 which published in the Federal Register on May 7, 2015 at 80 FR 26191 is withdrawn as of July 2, 2015.

[FR Doc. 2015-16390 Filed 7-1-15; 8:45 am]

BILLING CODE 6560-50-P